DEPARTMENT OF LABOR

Occupational Safety and Health Administration

[Docket No.: OSHA-2022-0001]

Advisory Committee on Construction Safety and Health (ACCSH)

AGENCY: Occupational Safety and Health Administration (OSHA), Labor.

ACTION: Notice of ACCSH Membership.

SUMMARY: On May 5, 2023, the Acting Secretary appointed 15 members to serve on the Advisory Committee on Construction Safety and Health (ACCSH).

FOR FURTHER INFORMATION CONTACT:

For press inquiries: Mr. Frank Meilinger, Director, OSHA Office of Communications; telephone: (202) 693-1999; email: meilinger.francis2@dol.gov.

For general information about ACCSH and ACCSH membership: Mr. Damon Bonneau, OSHA, Directorate of Construction; telephone: (202) 693-2020; email: bonneau.damon@dol.gov.

Copies of this Federal Register document: Electronic copies of this Federal Register document are available at https://www.regulations.gov. This document, as well as news releases and other relevant information, are also available on the OSHA web page at https://www.osha.gov.

SUPPLEMENTARY INFORMATION:

I. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (see also 29 CFR 1911.10 and 1912.3). In addition, the CSA and OSHA regulations require the Assistant Secretary to consult with ACCSH before the agency proposes occupational safety and health standards affecting construction activities (40 U.S.C. 3704; 29 CFR 1911.10).

ACCSH operates in accordance with the Federal Advisory Committee Act (FACA), as amended (5 U.S.C. App. 2), and the implementing regulations (41 CFR 102-3 et seq.); and Department of Labor Manual Series Chapter 1-900 (8/31/2020). ACCSH generally meets two to four times a year.

II. Appointment of Committee Members:

ACCSH consists of 15 members whom the Secretary appoints. ACCSH members generally serve two-year terms, unless they resign, cease to be qualified, become unable to serve, or the Secretary removes them (29 CFR 1912.3(e)). The Secretary may appoint ACCSH members to successive terms. The allocation of members for each category of ACCSH membership is:

• Five members who are qualified by experience and affiliation to present the viewpoint of employees in the construction industry;

• Five members who are similarly qualified to present the viewpoint of employers in the construction industry;

• Two public members, qualified by knowledge and experience to make a useful contribution to the work of ACCSH, such as those who have professional or technical experience and competence with occupational safety and health in the construction industry;

• Two representatives of State safety and health agencies; and

• One representative designated by the Secretary of the Department of Health and Human Services.

OSHA received nominations of highly qualified individuals in response to the agency's request for nominations (87 FR 73333, November 29, 2022). The Acting Secretary appointed individuals to serve on the Committee who have broad experience relevant to the issues to be examined by the Committee. The ACCSH membership is as follows:

Employee Representatives

• Christina Trahan Cain, North America's Building Trades Unions (ACCSH Chair);

• Liliana A. Calderon, International Union of Bricklayers and Allied Craftworkers;

• Ryan Papariello, Laborers Health and Safety Fund of North America;

• Kenneth G. Seal, International Union of Painters and Allied Trades; and

• Robert Seman, International Union of Operating Engineers.

Employer Representatives

• Kevin Cannon, The Associated General Contractors of America;

• Matthew Compher, Quanta Services, Inc.;

• Michael P. Lawler, Walsh Construction Company;

• Greg Sizemore, Associated Builders and Contractors; and

• Mindy Uber, Skanska USA Building, Inc.

Public Representatives

• Dr. Marissa G. Baker, University of Washington; and

• Eric D. Fidler, The Manitowoc Company, Inc.

State Representatives

• Christopher Scott Mabry, North Carolina Department of Labor; and

• Charles Stribling, Kentucky Labor Cabinet Department of Workplace Standards.

Federal Representative

• Dr. G. Scott Earnest, National Institute for Occupational Safety and Health.

Authority and Signature

James S. Frederick, Deputy Assistant Secretary of Labor for Occupational Safety and Health, authorized the preparation of this notice pursuant to 29 U.S.C. 655, 40 U.S.C. 3704, Secretary of Labor's Order No. 8-2020 (85 FR 58393), 5 U.S.C. App. 2, and 29 CFR part 1912.

Signed at Washington, DC, on May 18, 2023.
James S. Frederick,
Deputy Assistant Secretary of Labor for Occupational Safety and Health.

[FR Doc. 2023-11248 Filed 5-25-23; 8:45 am]

BILLING CODE 4510-26-P